DEPARTMENT OF THE INTERIOR

National Park Service

Coral Reef Restoration Plan, Draft Programmatic Environmental Impact Statement, Biscayne National Park, FL

AGENCY: National Park Service, Department of the Interior.

ACTION: Notice of Availability of the Draft Programmatic Environmental Impact Statement for the Coral Reef Restoration Plan, Biscayne National Park.

SUMMARY: Pursuant to the National Environmental Policy Act (NEPA) of 1969, 42 U.S.C. 4332(2)(C), the National Park Service (NPS) announces the availability of a Draft Programmatic Environmental Impact Statement (DEIS) for the Coral Reef Restoration Plan for Biscayne National Park, Florida. The DEIS provides a systematic approach to addressing injuries to coral reefs caused by vessel groundings within Biscayne National Park.

DATES: The NPS will accept comments on the DEIS from the public for 60 days after the date the Environmental Protection Agency notices the availability of the DEIS in its regular Friday Federal Register listing. A public meeting will be held during the review period to facilitate submission of public comment. Once scheduled, the meeting date will be announced via the Biscayne National Park website (http://www.nps.gov/bisc/), the NPS's Planning Environment and Public Comment (PEPC) Web site (http://parkplanning.nps.gov/bisc), and a press release to area media.

ADDRESSES: The DEIS for the Coral Reef Restoration Plan will be available for public review online at the NPS's PEPC Web site (http://parkplanning.nps.gov/bisc), and in the office of Mark Lewis, Superintendent of Biscayne National Park, 9700 SW. 328th Street, Homestead, Florida 33033, 305-230-1144.

SUPPLEMENTARY INFORMATION: Many vessel groundings occur annually in Biscayne National Park, causing injuries to submerged resources. The goal of coral reef restoration actions in Biscayne National Park is to create a stable, self-sustaining reef environment of similar topography and surface complexity to that which existed prior to injury, such that natural recovery processes, enhanced through mitigation, if needed, will lead to a fully functioning coral reef community with near natural complexity, structure, and make-up of organisms. The DEIS provides a systematic approach to addressing injuries to coral reefs caused by vessel groundings within Biscayne National Park. It analyzes two alternatives, the No Action alternative (Alternative 1) and Restoration Using a Programmatic Approach (Alternative 2).

Alternative 1 would not change the existing approach to coral reef restoration planning and implementation, including NEPA compliance. Currently, Biscayne National Park resource managers evaluate the impacts of coral reef restoration actions and specific restoration methods when planning and implementing restoration at each grounding incident. In contrast, to address each coral injury under Alternative 2, the most appropriate restoration actions and specific restoration methods would be selected from a “toolbox” of methods that already have had their impacts evaluated programmatically. Under Alternative 2, 11 reasonable and common coral reef restoration actions were identified and evaluated for inclusion in the toolbox.

Alternative 2 (Restoration Using a Programmatic Approach) was identified as the NPS's preferred alternative. The time required to evaluate environmental impacts of restoration actions after site-specific injuries would be minimized substantially under Alternative 2, resulting in fewer adverse effects and/or more beneficial effects to park resources.

If you wish to comment, you may submit your comments by any one of several methods. You may comment via the Internet at http://parkplanning.nps.gov/bisc. You may also mail comments to Coral Reef Restoration Plan, Biscayne National Park, 9700 SW. 328th Street, Homestead, FL 33033. Finally, you may hand-deliver comments to Biscayne National Park, 9700 SW. 328th Street, Homestead, FL 33033. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Biscayne National Park, 9700 SW. 328th Street, Homestead, FL 33033; Telephone 305-230-1144.

Dated: February 18, 2010.
David Vela,
Regional Director, Southeast Region, National Park Service.

[FR Doc. 2010-9548 Filed 4-23-10; 8:45 am]

BILLING CODE 4310-70-P